DEPARTMENT OF COMMERCE

International Trade Administration

[A-570-848]

Notice of Extension of Time Limit for Preliminary Results of New-Shipper Antidumping Review: Freshwater Crawfish Tail Meat From the People's Republic of China

AGENCY: Import Administration, International Trade Administration, Department of Commerce.

EFFECTIVE DATE: May 1, 2000.

FOR FURTHER INFORMATION CONTACT: Sarah Ellerman or Maureen Flannery, Import Administration, International Trade Administration, U.S. Department of Commerce, 14th Street and Constitution Avenue, N.W., Washington, D.C. 20230; telephone: (202) 482-4106 and (202) 482-3020, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Background

On March 30, 1999,the Department received a request from Yancheng Haiteng Aquatic Products & Foods Co., Ltd. to conduct a new shipper review of the antidumping duty order on freshwater crawfish tail meat from the People's Republic of China. On May 6, 1999, the Department published its initiation of this new shipper review covering the period of September 1, 1998 through February 28, 1999 (64 FR 24328). On March 15, 2000, the Department published the preliminary results of review (65 FR 13939).

Extension of Time Limits for Final Results

Because of the complexities enumerated in the Memorandum from Edward C. Yang to Joseph A. Spetrini, Extension of Time Limit for the Final Results of New Shipper Review of Freshwater Crawfish Tail Meat from the People's Republic of China, dated April 7, 2000, we find this review to be extraordinarily complicated and thus are unable to complete these reviews within the time limits mandated by section 351.214(i)(2) of the Department's regulations.

Therefore, in accordance with section 351.214(i)(2) of the Department's regulations, the Department is extending the time period for issuing the final results of review until June 23, 2000.

Dated: April 7, 2000.
Joseph A. Spetrini,
Deputy Assistant Secretary, AD/CVD Enforcement Group III.

[FR Doc. 00-10807 Filed 4-28-00; 8:45 am]

BILLING CODE 3510-DS-P